ENVIRONMENTAL PROTECTION AGENCY

[EPA-HQ-OARM-2016-0762; FRL-9959-17-OARM]

Proposed Information Collection Request; Comment Request; General Administrative Requirements for Assistance Programs

AGENCY: Environmental Protection Agency (EPA).

ACTION: Notice.

SUMMARY: The Environmental Protection Agency is planning to submit an information collection request (ICR), “General Administrative Requirements for Assistance Programs” (EPA ICR No. 0938.21, OMB Control No. 2030-0020) to the Office of Management and Budget (OMB) for review and approval in accordance with the Paperwork Reduction Act (44 U.S.C. 3501 et seq.). Before doing so, EPA is soliciting public comments on specific aspects of the proposed information collection as described below. This is a proposed extension of the ICR, which is currently approved through June 30, 2017. An Agency may not conduct or sponsor and a person is not required to respond to a collection of information unless it displays a currently valid OMB control number.

DATES: Comments must be submitted on or before April 10, 2017.

ADDRESSES: Submit your comments, referencing Docket ID No. EPA-HQ-OARM-2016-0762, online using www.regulations.gov (our preferred method), by email to oei.docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Elizabeth January, Office of Grants and Debarment, National Policy, Training and Compliance Division, Mail Code: 3903R, Environmental Protection Agency, 1200 Pennsylvania Ave. NW., Washington, DC 20460; telephone number: (617) 918-8655; fax number: (202) 565-2470; email address: January.Elizabeth@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The information is collected from applicants/recipients of EPA assistance to monitor adherence to the programmatic and administrative requirements of the Agency's financial assistance program. It is used to make awards, pay recipients, and collect information on how Federal funds are being spent. EPA needs this information to meet its Federal stewardship responsibilities. This ICR renewal requests authorization for the collection of information under EPA's General Regulation for Assistance Programs, which establishes minimum management requirements for all recipients of EPA grants or cooperative agreements (assistance agreements). Recipients must respond to these information requests to obtain and/or retain a benefit (Federal funds). For awards made prior to December 26, 2014, 40 CFR part 30, “Grants and Agreements with Institutions of Higher Education, Hospitals, and Other Non-Profit Organizations,” establishes the management requirements for institutions of higher education, hospitals, and other non-profit organizations, as well as procurement requirements for non-governmental recipients. For awards made prior to December 26, 2014, 40 CFR part 31, “Uniform Administrative Requirements for Grants and Cooperative Agreements to State and Local Governments,” includes the management requirements for States, local governments, and Indian Tribal governments. These regulations include only those provisions mandated by statute, required by Office of Management and Budget (OMB) Circulars, or added by EPA to ensure sound and effective financial assistance management. For awards made on or after December 26, 2014, 2 CFR 200 and EPA's implementation of 2 CFR 200 at 2 CFR 1500 “Uniform Administrative Requirements, Cost Principles and Audit Requirements for Federal Awards” establishes the management requirements for all entity types. These regulations include only those provisions mandated by statute, required by OMB Circulars, or added by EPA to ensure sound and effective financial assistance management. This ICR combines all of these requirements under OMB Control Number 2030-0020. The information required by these regulations will be used by EPA award officials to make assistance awards and assistance payments and to verify that the recipient is using Federal funds appropriately.

Form Numbers:

EPA Form 190-F-04-001, “EPA Payment Request”

EPA Form 190-F-05-001, “Fellowship Stipend Payment Enrollment Form”

EPA Form 4700-4, “Preaward Compliance Review Report for All Applicants and Recipients Requesting Federal Financial Assistance”

EPA Form 5700-52A, “MBE/WBE Utilization Under Federal Grants and Cooperative Agreements”

EPA Form 5700-53, “Lobbying and Litigation Certification for Grants and Cooperative Agreements”

EPA Form 5700-54, “Key Contacts Form,” and EPA Form 5700-55, “Key Contacts Form for Multiple Principal Investigators”

EPA Form 5770-2, “Fellowship Application”

EPA Form 5770-3, “Fellowship Facilities and Commitment Statement”

EPA Form 5770-5, “Agency Fellowship Certification”

EPA Form 5770-7, “EPA Fellowship Activation Notice”

EPA Form 5770-8, “Fellowship Agreement”

EPA Form 5770-9, “Completion of Studies Notice”

EPA Form 6600-01, “EPA Administrative and Financial Onsite Review Questionnaire”

EPA Form 6600-06, “Certification Regarding Lobbying”

EPA Form 6600-08, “Lobbying Cost Certificate for Indirect Costs/Certificate of Indirect Costs for State and Local Governments”

EPA Form 6600-09, “EPA Administrative Capability Questionnaire”

NCER Form 5, “Current and Pending Support”

SF 428, “Tangible Personal Property”

SF 429, “Real Property Status Report”

Respondents/affected entities: The primary recipients of EPA assistance agreements are State and local governments, Indian Tribes, educational institutions, and not-for-profit institutions.

Respondent's obligation to respond: Required to obtain an assistance agreement (40 CFR part 30 and 40 CFR part 31 for awards made prior to December 26, 2014, and 2 CFR 200 and 2 CFR 1500 for awards made on or after December 26, 2014).

Estimated number of respondents: 8,326 (total).

Frequency of response: On occasion, quarterly, and annually.

Total estimated burden: 155,006 hours (per year). Burden is defined at 5 CFR 1320.03(b).

Total estimated cost: $9,064,017 (per year), includes $0 annualized capital or operation & maintenance costs.

Changes in Estimates: Estimates are likely to stay substantially the same compared with the ICR currently approved by OMB due to limited programmatic changes or changes in the estimated respondent universe.

Dated: January 23, 2017.
Denise A. Polk,
Director of the Office of Grants and Debarment.

[FR Doc. 2017-02595 Filed 2-7-17; 8:45 am]

BILLING CODE 6560-50-P